INTERNATIONAL TRADE COMMISSION

[Investigation No. 337-TA-989]

Certain Automated Teller Machines, ATM Modules, Components Thereof, and Products Containing the Same; Commission Determination Not To Review an Initial Determination Amending the Complaint and Notice of Investigation To Reflect a Corporate Name Change

AGENCY: U.S. International Trade Commission.

ACTION: Notice.

SUMMARY: Notice is hereby given that the U.S. International Trade Commission (“the Commission”) has determined not to review an initial determination (“ID”) (“Order No. 32”) amending the complaint and notice of investigation to reflect a corporate name change.

FOR FURTHER INFORMATION CONTACT: Ron Traud, Office of the General Counsel, U.S. International Trade Commission, 500 E Street SW., Washington, DC 20436, telephone 202-205-3427. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server at https://www.usitc.gov. The public record for this investigation may be viewed on the Commission's electronic docket (“EDIS”) at https://edis.usitc.gov. Hearing-impaired persons are advised that information on this matter can be obtained by contacting the Commission's TDD terminal, telephone 202-205-1810.

SUPPLEMENTARY INFORMATION: On March 14, 2016, the Commission instituted this investigation based on a complaint filed by Nautilus Hyosung Inc. of Seoul, Republic of Korea, and Nautilus Hyosung America Inc. of Irving, Texas (collectively, “Nautilus”). 81 FR 13419 (Mar. 14, 2016). The complaint alleges violations of Section 337 based upon the importation into the United States, the sale for importation into the United States, and the sale within the United States after importation of certain automated teller machines, ATM modules, components thereof, and products containing the same by reason of infringement of claims 1-3 and 5 of U.S. Patent No. 7,891,551 (“the '551 patent”); claims 1 and 6 of U.S. Patent No. 7,950,655 (“the '655 patent”); claims 1-4, 6, and 7 of U.S. Patent No. 8,152,165 (“the '165 patent”); and claims 1-3, 6, 8, and 9 of U.S. Patent No. 8,523,235 (“the '235 patent”). Id. The Commission's Notice of Investigation named as respondents Diebold, Incorporated and Diebold Self-Service Systems (collectively, “Diebold”), both of North Canton, OH. Id. The Office of Unfair Import Investigations is not participating in this investigation. The asserted claims of the '551, '165, and '655 patents have been withdrawn from this investigation. See Notice of Commission Determination Not to Review an Initial Determination Terminating the Investigation in Part as to U.S. Patent Nos. 7,891,551 and 8,152,165 (July 27, 2016); Commission Determination Not to Review an Initial Determination Terminating the Investigation in Part as to U.S. Patent No. 7,950,655 (Aug. 16, 2016).

On February 6, 2017, the administrative law judge issued Order No. 32, the subject ID, which granted an unopposed motion filed by Nautilus to amend the complaint and the Commission's Notice of Investigation to reflect a corporate name change “such that the name Diebold, Incorporated be amended to recite Diebold Nixdorf, Incorporated.” No petitions for review of the subject ID were filed. After consideration, the Commission has determined not to review the subject ID.

The authority for the Commission's determination is contained in section 337 of the Tariff Act of 1930, as amended (19 U.S.C. 1337), and in part 210 of the Commission's Rules of Practice and Procedure (19 CFR part 210).

By order of the Commission.
Issued: March 8, 2017.
Lisa R. Barton,
Secretary to the Commission.

[FR Doc. 2017-04887 Filed 3-10-17; 8:45 am]

BILLING CODE 7020-02-P